POSTAL REGULATORY COMMISSION

39 CFR Part 3001

[Docket No. RM2015-8; Order No. 2465]

Rules for Automatic Closure of Inactive Dockets

AGENCY: Postal Regulatory Commission.

ACTION: Proposed rulemaking.

SUMMARY: The Commission is proposing a rule which establishes procedures related to the automatic closure of inactive dockets. The primary purpose of the proposed rule is to simplify the docket closure process and reduce uncertainty over the status of inactive dockets. The Commission invites public comment on the proposal.

DATES: Comments are due: June 8, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Background

III. Proposed Rules

IV. Comments Requested

V. Ordering Paragraphs

I. Introduction

The Commission establishes a rulemaking docket pursuant to the Postal Accountability and Enhancement Act (PAEA), Public Law 109-435, 120 Stat. 3198 (2006), which authorizes the Commission to develop rules and establish procedures that it deems necessary and proper to carry out Commission functions.¹

¹ See 39 U.S.C. 503; see also Postal Reorganization Act, Public Law 91-375, 84 Stat. 759 (1970), at section 3603.

The primary purpose of this rulemaking is to establish procedures that would simplify the docket closure process by permitting automatic closure of a docket where there has been no activity in the docket for at least 12 months. The proposed rule would ensure that the information provided to the public concerning active dockets remains current. The proposed rule promotes sound and efficient administrative practice, and would serve the public interest by reducing uncertainty over the status of inactive dockets.

II. Background

Currently, there are no regulations in place that allow for the automatic closure of an inactive docket. In recent years, the Commission has initiated closure of inactive dockets by issuing an order to that effect. For example, on January 29, 2015, the Commission issued an order closing Docket No. PI2012-1 after nearly two years of inactivity.² On January 30, 2015, the Commission issued an order closing Docket No. PI2010-1 as there had been no activity in the docket since June 2011.³ Certain other long-standing dockets, such as the ones noted above, remain open and are identified on the Commission's Web site as active dockets, despite years of inactivity. The proposed rule would establish a maximum inactive period that would automatically initiate docket closure, without Commission action, thereby preventing dormant dockets from remaining open without productive activity. It would also establish an opportunity for interested persons to request the reopening of an automatically closed docket for good cause.

² Docket No. PI2012-1, Order No. 2335, Order Closing Docket, January 29, 2015.

³ Docket No. PI2010-1, Order No. 2337, Order Closing Proceeding, January 30, 2015, at 2.

III. Proposed Rules

Proposed § 3001.44(a) sets an inactive period of 12 months as the triggering event for automatic docket closure. Proposed § 3001.44(b) provides interested persons with an opportunity to request that an inactive docket remain open at least 10 days prior to automatic closure. Proposed § 3001.44(c) provides interested persons with an opportunity to request that an automatically closed docket be reopened for good cause.

IV. Comments Requested

Interested persons are invited to provide written comments concerning the proposed rules. Comments are due no later than 30 days after the date of publication of this notice in the Federal Register. All comments and suggestions received will be available for review on the Commission's Web site, http://www.prc.gov.

Pursuant to 39 U.S.C. 505, Anne C. O'Connor is appointed to serve as an officer of the Commission (Public Representative) to represent the interests of the general public in the above-captioned docket.

VI. Ordering Paragraphs

It is ordered:

1. Docket No. RM2015-8 is established for the purpose of receiving comments on the proposed changes to part 3001, as discussed in this Order.

2. Interested persons may submit comments no later than 30 days from the date of publication of this notice in the Federal Register.

3. Pursuant to 39 U.S.C. 505, Anne C. O'Connor is appointed to serve as Public Representative in this proceeding.

4. The Secretary shall arrange for publication of this Order in the Federal Register.

By the Commission.
Shoshana M. Grove,
Secretary.

Concurring Opinion of Commissioner Goldway

I believe due process and transparency in public proceedings obliges a notice to the public when a docket is closed. Lacking such notice, it will be more difficult for interested persons to determine when, how and for what reason a docket was terminated.

I would add the following language to the Proposed Rule: The Commission shall issue a public notice announcing the automatic closure of the docket, at the time of closure.

The rule would be improved and the Commission's commitment to openness and citizen participation would be enhanced if the Commission were to adopt in the Final Rule the additional step I had recommended.

Ruth Y. Goldway

List of Subjects in 39 CFR Part 3001

Administrative practice and procedure, Postal Service.

For the reasons discussed in the preamble, the Commission proposes to amend chapter III of title 39 of the Code of Federal Regulations as follows:

PART 3001—RULES OF PRACTICE AND PROCEDURE

1. The authority citation for part 3001 continues to read as follows:

Authority: 39 U.S.C. 404(d); 503; 504; 3661.

2. Add new § 3001.44 to read as follows:

§ 3001.44 Automatic Closure of Inactive Docket.

(a) The Commission shall automatically close a docket in which there has been no activity of record by any interested party or participant for 12 consecutive months.

(b) Motion to stay automatic closure. Any interested party or participant, including the Postal Service, a Public Representative, or the Commission, may file a motion to stay automatic closure, pursuant to § 3001.21, and request that the docket remain open for a specified term not to exceed 12 months. Motions to stay automatic closure must be filed at least 10 days prior to the automatic closure date.

(c) Motion to reopen automatically closed docket. If, at any time after a docket has been automatically closed, any interested party or participant, including the Postal Service, a Public Representative, or the Commission, may file a motion to reopen an automatically closed docket, pursuant to § 3001.21, and must set forth with particularity good cause for reopening the docket.

[FR Doc. 2015-11061 Filed 5-7-15; 8:45 am]

BILLING CODE 7710-FW-P